DEPARTMENT OF THE TREASURY

Proposed Collection; Comment Request

AGENCY: Departmental Offices, Treasury.

ACTION: Notice and request for comments.

SUMMARY: The Department of the Treasury, as part of its continuing effort to reduce paperwork and respondent burden, invites the general public and other Federal agencies to comment on this continuing information collection, as required by the Paperwork Reduction Act of 1995, Public Law 104-13 (44 U.S.C. 3506(c)(2)(A)).

DATES: Written comments should be received on or before December 5, 2016 to be assured of consideration.

ADDRESSES: Send comments regarding the burden estimate, or any other aspect of the information collection, including suggestions for reducing the burden, to the Department of the Treasury, Office of Financial Stability, ATTN: Nicole Brandon, 1500 Pennsylvania Avenue NW., Washington, DC 20020 or to Nicole.Brandon@treasury.gov.

FOR FURTHER INFORMATION CONTACT: Requests for additional information should be directed to the Department of the Treasury, Office of Financial Stability, ATTN: Nicole Brandon, 1500 Pennsylvania Avenue NW., Washington, DC 20020; (202) 622-0981;; or Nicole.Brandon@treasury.gov.

SUPPLEMENTARY INFORMATION:

OMB Control Number: 1505-0222.

Title: Troubled Asset Relief Program (TARP)—Capital Purchase Program (CPP) Annual Use of Capital Survey.

Abstract: The Treasury Department is committed to determining the effectiveness of all of the programs of the Office of Financial Stability (OFS). The purpose of the Use of Capital Survey is to obtain insight into the lending, financial intermediation, and capital building activities of all recipients of government investment through CPP and Community Development Capital Initiative (CDCI) funds. The survey is designed to capture representative information of CPP and CDCI fund usage without imposing excessive burdens on institutions.

Type of Review: Revision of a currently approved collection.

Affected Public: Businesses or other for-profits (financial institutions).

Estimated Number of Annual Respondents: 68.

Estimated Hours per Response: 3.

Estimated Total Annual Burden Hours: 204.

Request for Comments: Comments submitted in response to this notice will be summarized and included in the request for Office of Management and Budget approval. Comments may become a matter of public record. The public is invited to submit comments concerning: (a) Whether the collection of information is necessary for the proper performance of the functions of the agency, including whether the information will have practical utility; (b) the accuracy of the agency's estimate of the burden of the collection of information; (c) ways to enhance the quality, utility, and clarity of the information to be collected; (d) ways to minimize the burden of the collection of information on respondents, including the use of automated collection techniques or other forms of information technology; and (e) estimates of capital or start-up costs and costs of operation, maintenance, and purchase of services to provide information.

Dated: October 3, 2016.
Brenda Simms,
Treasury PRA Clearance Officer.

[FR Doc. 2016-24227 Filed 10-5-16; 8:45 am]

BILLING CODE 4810-25-P